DEPARTMENT OF DEFENSE

GENERAL SERVICES ADMINISTRATION

NATIONAL AERONAUTICS AND SPACE ADMINISTRATION

48 CFR Chapters 1, 2, and 5

Federal Acquisition Regulation; Federal Acquisition Regulation Supplements; Contract Closeout

AGENCIES: Department of Defense (DoD), General Services Administration (GSA), and National Aeronautics and Space Administration (NASA).

ACTION: Advance notice of proposed rulemaking.

SUMMARY: The Civilian Agency Acquisition Council and the Defense Acquisition Regulations Council are requesting comments from both Government and industry on how the Federal Acquisition Regulation (FAR), Defense FAR Supplement (DFARS), and General Services Administration Acquisition Regulation (GSAR) can be revised to facilitate timely contract closeout.

DATES: Comments are due on or before November 25, 2002.

ADDRESSES: Interested parties should submit written comments to: General Services Administration, FAR Secretariat (MVA), 1800 F Street, NW., Room 4035, ATTN: Laurie Duarte, Washington, DC 20405.

Address e-mail comments submitted via the Internet to: ANPR.contractcloseout@gsa.gov.

Please cite ANPR Contract Closeout in all correspondence related to this issue.

FOR FURTHER INFORMATION CONTACT: Mr. Rick Layser at (703) 602-0293.

SUPPLEMENTARY INFORMATION: Although the vast majority of contracts are generally closed timely, there is a backlog of contracts that have not been closed out within the timeframes required by FAR 4.804, Closeout of contract files. The Department of Defense has analyzed the contract closeout process to identify obstacles to timely contract closeout. Many causes of the backlog have been identified and are being focused upon. Some of the causes include process related delays like late submittal of final vouchers, final price redetermination proposals, royalty/patents submittals and approvals, final audits, overhead rate negotiations, disposition of Government property and classified materials; other causes include lack of contract funding and agency resources.

In this advance notice of proposed rulemaking we are seeking input on whether any FAR, DFARS, or GSAR requirements can be considered for change to help facilitate the contract closeout process. In order to ensure that the FAR, DFARS, and GSAR do not unduly impede timely closeout of contracts, an interagency team has been established that will review the FAR, DFARS, and GSAR relating to contract closeout to determine what changes, if any, can be made to facilitate timely contract closeout. FAR, DFARS, and GSAR requirements relating to contract closeout that are not required by statute, not needed to ensure adequately standardized Government business practices, or not needed to protect the public interest will be considered for revision or elimination.

Dated: September 18, 2002.
Al Matera,
Director, Acquisition Policy Division.

[FR Doc. 02-24173 Filed 9-23-02; 8:45 am]

BILLING CODE 6820-EP-P